DEPARTMENT OF TRANSPORTATION

Federal Aviation Administration

14 CFR Part 39

[Docket No. FAA-2013-0350; Directorate Identifier 2012-SW-050-AD]

RIN 2120-AA64

Airworthiness Directives; AgustaWestland S.p.A. Helicopters

AGENCY: Federal Aviation Administration (FAA), DOT.

ACTION: Notice of proposed rulemaking (NPRM).

SUMMARY: We propose to adopt a new airworthiness directive (AD) for AgustaWestland S.p.A. (AgustaWestland) Model A119 and AW119 MKII helicopters to require inspecting the pilot and co-pilot doors to ensure that the windows are properly bonded within the doors. If the windows are not properly bonded, the proposed AD would require applying bonding to the windows, the seals, and the window frames of the pilot and co-pilot doors. This proposed AD is prompted by the loss of a pilot-door window during a test flight. The proposed actions are intended to ensure the windows do not detach from the doors, potentially injuring persons on the ground and damaging the helicopter's tailboom and the tail rotor blades.

DATES: We must receive comments on this proposed AD by June 24, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact AgustaWestland, Customer Support & Services, Via Per Tornavento 15, 21019 Somma Lombardo (VA) Italy, ATTN: Giovanni Cecchelli; telephone 39-0331-711133; fax 39 0331 711180; or at http://www.agustawestland.com/technical-bullettins. You may review the referenced service information at the FAA, Office of the Regional Counsel, Southwest Region, 2601 Meacham Blvd., Room 663, Fort Worth, Texas 76137.

FOR FURTHER INFORMATION CONTACT: Sharon Miles, Aviation Safety Engineer, Regulations and Policy Group, Rotorcraft Directorate, FAA, 2601 Meacham Blvd., Fort Worth, Texas 76137; telephone (817) 222-5110; email sharon.y.miles@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2012-0058, dated April 3, 2012, to correct an unsafe condition for AgustaWestland Model A119 and AW119 MKII helicopters. EASA advises that the pilot-door window detached during a test flight of an AW119 MKII helicopter. The occupant was not injured, and the helicopter was not damaged.

According to EASA, an investigation revealed that a “lack of the bonding of the seal both to the window and to the door structure” caused the window's detachment. To address this unsafe condition, AugustaWestland issued Bollettino Tecnico (BT) No. 119-47, dated March 29, 2012, and EASA issued AD No. 2012-0058 to require an inspection of the bonding in the pilot and co-pilot door windows and, if there is no bonding, applying bonding.

If this condition is not corrected, it could lead to detachment of the windows from the pilot- and co-pilot doors, potentially injuring persons on the ground and damaging the helicopter.

FAA's Determination

These helicopters have been approved by the aviation authority of Italy and are approved for operation in the United States. Pursuant to our bilateral agreement with Italy, EASA, its technical representative, has notified us of the unsafe condition described in its AD. We are proposing this AD because we evaluated all known relevant information and determined that an unsafe condition is likely to exist or develop on other products of the same type design.

Related Service Information

We reviewed BT No. 119-47 for all AgustaWestland A119 and AW119 MKII helicopters, which contains procedures to ensure that the pilot- and co-pilot door windows are correctly bonded.

Proposed AD Requirements

This proposed AD would require, within the next 50 hours time-in-service (TIS) or within the next five months, whichever comes first, inspecting the pilot and co-pilot doors to determine whether there is bonding between the seals, the window frames, and the windows in the external and internal sides of the seals' junction areas. If no bonding exists, before further flight, this proposed AD would require applying bonding to the windows, seals, and window frames.

Costs of Compliance

We estimate that this proposed AD would affect 65 helicopters of U.S. Registry and that labor costs would average $85 an hour. Based on these estimates, we expect the following costs:

• Inspecting for bonding between the seals and the windows in the internal and external sides of the junction areas would require 0.5 work-hour for a labor cost of about $43. No parts would be needed, so the cost for the U.S. fleet would total $2,795.

• Adding the bonding material if needed would require about 1.5 work-hours for a labor cost of about $128. The cost of materials would be negligible.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

AGUSTAWESTLAND S.p.A.: Docket No. FAA-2013-0350; Directorate Identifier 2012-SW-050-AD.

(a) Applicability

This AD applies to AgustaWestland S.p.A. (AgustaWestland) Model A119 and AW119 MKII helicopters, serial numbers up to and including 14781, certificated in any category.

(b) Unsafe Condition

This AD defines the unsafe condition as a window detaching from the pilot or co-pilot doors, which could result in damage to the helicopter and injury to persons on the ground.

(c) Reserved

(d) Compliance

You are responsible for performing each action required by this AD within the specified compliance time unless it has already been accomplished prior to that time.

(e) Required Actions

Within the next 50 hours time-in-service (TIS) or within the next five months, whichever comes first:

(1) Visually inspect the pilot and co-pilot doors by referencing Figure 1 of Bollettino Tecnico No. 119-47, dated March 29, 2012 (BT), to determine whether there is bonding between the seal (3) and the window (4) in the internal and external side of the seal's junction area.

(2) If there is no bonding, before further flight, apply bonding to the windows, seals, and window frames in accordance with the Compliance Instructions, paragraphs 5 through 20, of the BT.

(f) Alternative Methods of Compliance (AMOCs)

(1) The Manager, Safety Management Group, FAA, may approve AMOCs for this AD. Send your proposal to: Sharon Miles, Aviation Safety Engineer, Rotorcraft Directorate, FAA, 2601 Meacham Blvd., Fort Worth, Texas 76137; telephone (817) 222-5110; email sharon.y.miles@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency AD No. 2012-0058, dated April 3, 2012.

(h) Subject

Joint Aircraft Service Component (JASC) Code: 5610, Flight Compartment Windows.

Issued in Fort Worth, Texas, on April 12, 2013.
Lance T. Gant,
Acting Directorate Manager, Rotorcraft Directorate, Aircraft Certification Service.

[FR Doc. 2013-09715 Filed 4-24-13; 8:45 am]

BILLING CODE 4910-13-P